DEPARTMENT OF THE INTERIOR

Office of the Secretary

American Indian Probate Reform Act of 2004

AGENCY: Office of the Secretary, Interior.

ACTION: Certification.

SUMMARY: The American Indian Probate Reform Act of 2004 requires the Secretary of the Interior to certify that we developed an informational notice about the Act and its provisions. The Act also requires the Secretary of the Interior to certify that we sent the notice to individual Indian holders of interest in trust or restricted land by direct mail, and published the notice in the Federal Register and newspapers. This certification fulfills this requirement.

FOR FURTHER INFORMATION CONTACT: Eufrona Snyder, Special Assistant—Trust Management, Office of Trust Services, Bureau of Indian Affairs, Department of the Interior, 1849 C Street, NW., Washington, DC 20240, telephone number (202) 208-3614.

SUPPLEMENTARY INFORMATION: As required by the American Indian Probate Reform Act of 2004, the Secretary of the Interior has signed this certification and we are publishing it today to inform interested members of the public.

I, Gale A. Norton, in my capacity as Secretary of the Department of the Interior, herewith certify as follows: That consistent with the requirements of Public Law 108-374, the American Indian Probate Reform Act of 2004 (“AIPRA”), I have determined that the Department of the Interior has by April 25, 2005, provided notice designed to inform Indian owners of trust or restricted land of:

1. The changes to prior law made by this Act, with emphasis on changes made to testate disposition and interstate descent of their interests in trust or restricted land;

2. Estate planning options available to the owners, including any opportunities for receiving estate planning assistance or advice;

3. The use of other devices for consolidating land ownership, such as negotiated sales, gift deeds, and land exchanges; and

4. The toll-free call center telephone number for obtaining information regarding the provisions of the Act and any trust assets of such owners.

Further, such notice has been provided to individual Indian holders of interests in trust or restricted land and Individual Indian Money (IIM) account holders by direct mail in instances where the Bureau of Indian Affairs has a current mailing address; through the Federal Register, and through local newspapers in areas with significant Indian populations, reservation newspapers, and newspapers that are directed to an Indian audience. Notice was also given through the field offices delivering copies of notices to those Indian landowners and IIM account holders in their respective areas.

Dated: June 20, 2005.
Gale A. Norton,
Secretary of the Interior.

[FR Doc. 05-12731 Filed 6-27-05; 8:45 am]

BILLING CODE 4310-W7-M